DEPARTMENT OF DEFENSE

GENERAL SERVICES ADMINISTRATION

NATIONAL AERONAUTICS AND SPACE ADMINISTRATION

[FAR Case 2009-009; Docket 2009-0011; Sequence 2]

Federal Acquisition Regulation; FAR Case 2009-009, American Recovery and Reinvestment Act of 2009 (the Recovery Act)— Reporting Requirements

AGENCY: Department of Defense (DoD), General Services Administration (GSA), and National Aeronautics and Space Administration (NASA).

ACTION: Notice—Centralized Reporting Tool at FederalReporting.gov.

SUMMARY: The Civilian Agency Acquisition Council and the Defense Acquisition Regulations Council (the Councils) are issuing this notice to provide information to Federal contractors who have contracts funded, in whole or in part, by the American Recovery and Reinvestment Act of 2009 (“Recovery Act”), and include the FAR clause 52.204-11. This notice is being provided to offer assistance to Federal contractors in understanding the FederalReporting.gov centralized reporting tool.

DATES: Effective Date: September 25, 2009.

FOR FURTHER INFORMATION CONTACT: For clarification of content, contact Mr. Ernest Woodson, Procurement Analyst, at (202) 501-3775. Please cite Notice—Centralized Reporting Tool at Federalreporting.gov.

SUPPLEMENTARY INFORMATION:

A. Background

On March 31, 2009, the Councils published an interim rule, FAR case 2009-009, American Recovery and Reinvestment Act of 2009 (the Recovery Act)—Reporting Requirements (74 FR 14639). The rule implements section 1512 of Public Law 111-5, the American Recovery and Reinvestment Act of 2009 (the “Recovery Act”), which requires Federal contractors that receive awards (or modifications to existing awards) funded, in whole or in part, by the Recovery Act to report cumulatively each calendar quarter on the use of the funds. Federal contractors will report using a centralized reporting tool at FederalReporting.gov. The reporting tool was anticipated to be available for the reporting period ending June 30, 2009, with reports due July 10, 2009. However, the reporting tool was not available and a notice was posted to FederalReporting.gov advising Federal contractors to maintain their data for the quarter ending June 30, 2009 for the cumulative report due October 10, 2009. The reporting tool is anticipated to be available at FederalReporting.gov on October 1, 2009.

On August 25, 2009, a Federal Register notice (74 FR 42877) was published to notify Federal contractors that the Recovery Accountability and Transparency Board (“Board”) had announced the availability of registration at FederalReporting.gov. To comply with the reporting required by 52.204-11, Federal contractors must first register at FederalReporting.gov. Early registration is encouraged. The registration process requires authorization by the Federal contractors' Government Business or Electronic Business Points of Contact listed in their Central Contractor Registration (CCR) record for the DUNS number indicated by the FederalReporting.gov registrant. Federal contractors, who have not already registered at FederalReporting.gov, should do so now. For more information on the registration and authorization process, go to the “Downloads” tab at FederalReporting.gov and select the “User Registration Guide” and “Recipient Point of Contact Guide” from the Documentation section. A User Guide for the reporting tool will be posted to FederalReporting.gov shortly and will also contain registration instructions.

Contractors are advised to review the “Recipient Reporting Data Model” also provided under the “Downloads” tab. This document includes the data elements that will be required for reporting. The FAR Council is not responsible for developing FederalReporting.gov but understands that the system is being initially developed to focus on core functionality and will not pre-populate data elements. Therefore, additional data elements not included in the list in FAR clause 52.204-11, primarily administrative information required by the Federal Funding and Accountability Act (FFATA), must be entered. These additional data elements include: agency information (awarding agency and Government contracting office); contractor information (name, address, DUNS number, and congressional district); and, award information (program source (treasury account symbol (TAS)) associated with the award. Further, contractors must select “Federally awarded contract” from a list of award types. Federal contractors will have much of this data on hand, or it will be readily available in the contract document.

Until posted at FederalReporting.gov, information to assist Federal contractors in preparing for reporting, including a series of Frequently Asked Questions (FAQs) on reporting for Federal contractors, has been posted to http://www.whitehouse.gov/omb/recovery_default/. These FAQs will familiarize Federal contractors with the new system, available guides, key dates and activities, and the reporting process. The FAQs also provide additional information on data elements, such as examples on how to calculate full-time-equivalent in order to report jobs created and retained.

Because some information may not be available in the contract document, such as the TAS, the FAQs provide instruction on how to easily locate this information in the Recovery Act Report updated daily at https://www.fpds.gov.

The current interim rule will remain in effect. The FAR Council anticipates that the first reporting cycle will provide valuable experience and information necessary to inform the Council's decision on how best to proceed with the FAR rule. Federal contractors will be notified of the FAR Council's plan through the Federal Register.

An emergency information collection request adding the additional data elements and extending OMB-9000-0166 has been approved by the Office of Information and Regulatory Affairs. Information Collections for OMB-9000-0167, 9000-0168, and 9000-0169 have been extended. See

http://www.reginfo.gov/public/do/PRAMain and select “DOD/GSA/NASA (FAR)” as agency.

Dated: September 23, 2009.
Al Matera,
Director, Acquisition Policy Division.

[FR Doc. E9-23329 Filed 9-24-09; 8:45 am]

BILLING CODE 6820-EP-S